NUCLEAR REGULATORY COMMISSION

[Docket No. 52-024; NRC-2008-0233]

Entergy Operations, Inc.; Combined License Application for Grand Gulf, Unit 3

AGENCY: Nuclear Regulatory Commission.

ACTION: Exemption.

SUMMARY: The U.S. Nuclear Regulatory Commission (NRC) is issuing an exemption in response to a July 18, 2014, request from Entergy Operations, Inc. (EOI), which requested an exemption from addressing enhancements to the Emergency Preparedness (EP) rules in their Combined License (COL) application. The NRC staff reviewed this request and determined that it is appropriate to grant the exemption but stipulated that the revised application must be submitted the earlier of either the NRC's resumption of EOI's application review or by December 31, 2015.

DATES: December 11, 2014.

ADDRESSES: Please refer to Docket ID NRC-2008-0233 when contacting the NRC about the availability of information regarding this document. You may obtain publicly-available information related to this action by the following methods:

• Federal Rulemaking Web site: Go to http://www.regulations.gov and search for Docket ID NRC-2008-0233. Address questions about NRC dockets to Carol Gallagher; telephone: 301-287-3422; email: Carol.Gallagher@nrc.gov. For technical questions, contact the individual listed in the FOR FURTHER INFORMATION CONTACT section of this document.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that the document is referenced.

• NRC's PDR: You may examine and purchase copies of public documents at the NRC's PDR, Room O1-F21, One White Flint North, 11555 Rockville Pike, Rockville, Maryland 20852.

FOR FURTHER INFORMATION CONTACT: Lynnea Wilkins, Office of New Reactors, U.S. Nuclear Regulatory Commission, Washington, DC 20555-0001; telephone: 301-415-1377; email: Lynnea.Wilkins@nrc.gov.

SUPPLEMENTARY INFORMATION: The following sections include the text of the exemption in its entirety as issued to EOI.

1.0 Background

On February 27, 2008, EOI submitted to the NRC a COL application for one Economic Simplified Boiling-Water Reactor to be constructed and operated at the Grand Gulf Nuclear Station (GGNS) site in Claiborne County, Mississippi. On April 17, 2008, the NRC accepted for docketing the Grand Gulf Nuclear Station, Unit 3 (GGNS3) COL application (ADAMS Accession No. ML081050460, Docket No. 52-024). On January 9, 2009, EOI requested that the NRC temporarily suspend review of the application and the NRC granted EOI's request (ADAMS Accession No. ML090080523) while the application remained docketed. On September 30, 2013 (ADAMS Accession No. ML13275A065), EOI requested an exemption from the requirements of 10 CFR part 50, Appendix E, Section I.5, as referenced by Title 10 of the Code of Federal Regulations (10 CFR) 52.79(a)(21), to submit an update by December 31, 2014. The exemption was granted by the NRC on December 4, 2013 (ADAMS Accession Nos. ML13295A461 and ML13295A464). On July 18, 2014 (ADAMS Accession No. ML14202A338), EOI requested another exemption from the requirements of 10 CFR part 50, Appendix E, Section I.5.

2.0 Request/Action

Part 50, Appendix E, Section I.5 requires that an applicant for a COL under Subpart C of 10 CFR part 52 whose application was docketed prior to December 23, 2011, must revise their COL application to comply with the EP rules published in the Federal Register (76 FR 72560) on November 23, 2011. Part 50, Appendix E, Section I.5 gives those COL applicants close to receiving their COL the option to defer addressing the changes to the EP rules; however, a license amendment request must be submitted no later than December 31, 2013. An applicant that does not receive a COL before December 31, 2013, shall revise its COL application to comply with these EP rule changes no later than December 31, 2013. Because EOI will not hold a COL prior to December 31, 2013, it is therefore, required to revise its application to be compliant with the new EP rules by December 31, 2013. By letter dated January 9, 2009, EOI requested that the NRC suspend review of the GGNS3 COL application. The NRC granted EOI's request for suspension of all review activities while the application remained docketed (ADAMS Accession No. ML090080523). On September 30, 2013, EOI requested an exemption from the requirements of 10 CFR part 50, Appendix E, Section I.5, to submit an update by December 31, 2014, to the COL application. The exemption was granted by the NRC on December 4, 2013 and is set to expire on December 31, 2014. In a letter dated, July 18, 2014, EOI requested an exemption from the requirements of 10 CFR part 50, Appendix E, Section I.5 the earlier of either the time that EOI requests reactivation of the GGNS3 COL application review or on December 31, 2015. With either the reactivation request or on December 31, 2015 EOI commits to submit an upgrade of the GGNS3 COL application addressing the enhancements to Emergency Preparedness Regulations.

EOI requested an exemption from the requirements of 10 CFR part 50, Appendix E, Section I.5 to December 31, 2015 or coincident with resuming the review of the RBS3 COL application, whichever occurs first. The exemption would allow EOI to comply with the new EP rule at a later date, but still in advance of NRC's reinstating its review of the application and in any event, by December 31, 2015. The current schedule to comply with the new EP rule by December 31, 2013, could not be changed, absent the exemption.

3.0 Discussion

Pursuant to 10 CFR 50.12, the Commission may, upon application by any interested person or upon its own initiative, grant exemptions from the requirements of 10 CFR part 50, including 10 CFR part 50, Appendix E, Section I.5, when: (1) the exemption(s) are authorized by law, will not present an undue risk to public health or safety, and are consistent with the common defense and security; and (2) special circumstances are present. As relevant to the requested exemption, special circumstances exist if: “application of the regulation in the particular circumstances would not serve the underlying purpose of the rule or is not necessary to achieve the underlying purpose of the rule” (10 CFR 50.12(a)(2)(ii)).

The purpose of 10 CFR part 50 Appendix E, Section I.5 was to ensure that applicants and new COL holders updated their COL application or Combined License to allow the NRC to review them efficiently and effectively, and to bring the applicants or licensees into compliance prior to COL approval and receipt of license, or operate the facility. The target of Section I.5 of the rule was those applications that were in the process of being actively reviewed by the NRC staff when the rule came into effect on November 23, 2011. Because EOI requested the NRC to suspend its review of the GGNS3 COL application, compelling EOI to revise its COL application in order to meet the December 31, 2013, compliance deadline would only bring on unnecessary burden and hardship for the applicant to meet the compliance date. As long as it is recognized that the COL application must be updated to comply with the enhancements to the EP rules, prior to the NRC approving EOI's COL application, it makes no difference if EOI revises the COL application now, the earlier of EOI's request to restart the review or December 31, 2015. For this reason the application of Appendix E, Section I.5 can be deemed unnecessary and, therefore, special circumstances are present.

Authorized by Law

The exemption is a schedule exemption from the requirements of 10 CFR part 50, Appendix E, Section I.5. The exemption would allow EOI to revise its COL application and comply with the new EP rules, at the earlier of a request for a restart of the application's review or December 31, 2015, in lieu of December 31, 2013 the date required by 10 CFR part 50, Appendix E, Section I.5. As stated above, 10 CFR 50.12 allows the NRC to grant exemptions from the requirements of 10 CFR part 50 . The NRC staff has determined that granting EOI the requested exemption from the requirements of 10 CFR part 50, Appendix E, Section I.5 will be only temporary, and will not result in a violation of the Atomic Energy Act of 1954, as amended, or NRC's regulations. Therefore, the exemption is authorized by law.

No Undue Risk to Public Health and Safety

The underlying purpose of the enhancements to Emergency Preparedness found in 10 CFR part 50, Appendix E is to amend certain EP requirements which are aimed at enhancing protective measures in the event of a radiological emergency; address, in part, enhancements identified after the terrorist events of September 11, 2001; clarify regulations to effect consistent Emergency Plan implementation among licensees; and modify certain requirements to be more effective and efficient. Since plant construction cannot proceed until the NRC review of the application is completed, a mandatory hearing is completed, and a license is issued, the exemption does not increase the probability of postulated accidents. Additionally, based on the nature of the requested exemption as described above, no new accident precursors are created by the exemption; thus, neither the probability, nor the consequences of postulated accidents are increased. Therefore, there is no undue risk to public health and safety.

Consistent With Common Defense and Security

The requested exemption would allow EOI to submit the revised COL application the earlier of a requested restart of the NRC COL application review or on December 31, 2015. This schedule change has no relation to security issues. Therefore, the common defense and security is not impacted.

Special Circumstances

Special circumstances, in accordance with 10 CFR 50.12(a)(2)(ii), are present whenever “application of the regulation in the particular circumstances would not serve the underlying purpose of the rule or is not necessary to achieve the underlying purpose of the rule” (10 CFR 50.12(a)(2)(ii)). The underlying purpose of 10 CFR part 50, Appendix E, Section I.5 is to ensure that applicants are in compliance with the new EP rules in a time that allows the NRC to effectively review their revised COL application prior to issuance of the license. Because the requirement to comply with the new EP rules was intended for active reviews and the GGNS3 COL application review is now suspended, the application of this regulation in this particular circumstance is unnecessary in order to achieve its underlying purpose. If the NRC were to grant this exemption EOI would then be required to comply by the earlier of a restart of the review or December 31, 2015 and the purpose of the rule would still be achieved. Therefore, the special circumstances required by 10 CFR 50.12(a)(2)(ii) for the granting of an exemption from 10 CFR part 50, Appendix E, Section I.5 exist.

Eligibility for Categorical Exclusion From Environmental Review

With respect to the exemption's impact on the quality of the human environment, the NRC has determined that this specific exemption request is eligible for categorical exclusion as identified in 10 CFR 51.22(c)(25) and justified by the NRC staff as discussed below.

10 CFR 51.22(c)(25)(i): The criteria for determining whether there is no significant hazards consideration are found in 10 CFR 50.92(c)(1)-(3). The proposed action involves only a schedule change regarding the submission of an update to the application for which the licensing review has been suspended. There are no significant hazards considerations because granting the proposed exemption would not involve a significant increase in the probability or consequences of an accident previously evaluated, create the possibility of a new or different kind of accident from any accident previously evaluated, or involve a significant reduction in a margin of safety.

10 CFR 51.22(c)(25)(ii): The proposed action involves only a schedule change which is administrative in nature, and does not involve any changes to be made in the types or significant increase in the amounts of effluents that may be released offsite.

10 CFR 51.22(c)(25)(iii): Since the proposed action involves only a schedule change which is administrative in nature, it does not contribute to any significant increase in occupational or public radiation exposure.

10 CFR 51.22(c)(25)(iv): The proposed action involves only a schedule change which is administrative in nature; the COL application review is suspended until further notice, and there is no consideration of any construction at this time, and hence the proposed action does not involve any construction impact.

10 CFR 51.22(c)(25)(v): The proposed action involves only a schedule change which is administrative in nature, and does not impact the probability or consequences of radiological accidents.

10 CFR 51.22(c)(25)(vi)(B) and (G): The exemption request involves submitting an updated COL application by EOI and relates to the schedule for submitting a COL application update to the NRC.

4.0 Conclusion

Accordingly, the Commission has determined that, pursuant to 10 CFR 50.12(a)(1) and (2), the exemption is authorized by law, will not present an undue risk to the public health and safety, and is consistent with the common defense and security. Also special circumstances are present. Therefore, the Commission hereby grants EOI the exemption from the requirements of 10 CFR 50, Appendix E, Section I.5 pertaining to the Grand Gulf Unit 3 COL application to allow submittal of the revised COL application that complies with the new EP rules the earlier of any request to the NRC to resume the review or by December 31, 2015.

Pursuant to 10 CFR 51.22, the Commission has determined that the exemption request meets the applicable categorical exclusion criteria set forth in 10 CFR 51.22(c)(25), and the granting of this exemption will not have a significant effect on the quality of the human environment.

This exemption is effective upon issuance.

Dated at Rockville, Maryland, this 3rd day of December 2014.
For the Nuclear Regulatory Commission.
Ronaldo Jenkins,
Branch Chief, Licensing Branch 3, Division of New Reactor Licensing, Office of New Reactors.

[FR Doc. 2014-28999 Filed 12-10-14; 8:45 am]

BILLING CODE 7590-01-P